ENVIRONMENTAL PROTECTION AGENCY

[FRL-7952-8]

Proposed CERCLA Administrative Cost Recovery Settlement; the General Motors Corporation—Central Foundry Division Superfund Site, Massena, St. Lawrence County, NY

AGENCY: Environmental Protection Agency (EPA).

ACTION: Notice; request for public comment.

SUMMARY: In accordance with section 122(h) of the Comprehensive Environmental Response, Compensation, and Liability Act as amended (“CERCLA”), 42 U.S.C. 9622(h), notice is hereby given of a proposed administrative settlement for recovery of past response costs concerning the General Motors Corporation—Central Foundry Division Superfund Site located in Massena, St. Lawrence County, New York with the settling party, the General Motors Corporation. The settlement requires the settling party to pay $897,690.88, plus an additional sum for Interest on that amount calculated from April 21, 2004 through the date of payment to the General Motors—Central Foundry Division Superfund Site Special Account within the EPA Hazardous Substance Superfund in reimbursement of EPA's past response costs incurred with respect to the Site. The settlement includes a covenant not to sue the settling party pursuant to Section 107(a) of CERCLA, 42 U.S.C. 9607(a) for past response costs. For thirty (30) days following the date of publication of this notice, the Agency will receive written comments relating to the settlement. The Agency will consider all comments received and may modify or withdraw its consent to the settlement if comments received disclose facts or considerations which indicate that the settlement is inappropriate, improper, or inadequate.

DATES: Comments must be submitted on or before September 15, 2005.

ADDRESSES: The proposed settlement is available for public inspection at USEPA, 290 Broadway, 17th Floor, New York, New York 10007-1866. A copy of the proposed settlement may be obtained from Marla E. Wieder, Assistant Regional Counsel, USEPA, 290 Broadway, 17th Floor, New York, New York 10007-1866, (212) 637-3184. Comments should reference the General Motors Corporation—Central Foundry Division Superfund Site, CERCLA Docket No. 02-2005-2027. To request a copy of the proposed settlement agreement, please contact the individual identified below.

FOR FURTHER INFORMATION CONTACT: Marla E. Wieder, Assistant Regional Counsel, USEPA, 290 Broadway, New York, New York 10007-1866, (212) 637-3184.

Dated: July 26, 2005.
Raymond Basso,
Acting Division Director, Emergency Remedial Response Division, Region II.

[FR Doc. 05-16220 Filed 8-15-05; 8:45 am]

BILLING CODE 6560-50-P